DEPARTMENT OF ENERGY

Federal Energy Regulatory Commission

[Docket No. RP03-352-001]

Southern Star Central Gas Pipeline, Inc.; Notice of Compliance Filing

June 12, 2003.

Take notice that on June 6, 2003, Southern Star Central Gas Pipeline, Inc. (Southern Star) tendered for filing as part of its FERC Gas Tariff, Original Volume No. 1, Substitute Original Sheet No. 17, to become effective May 1, 2003.

Southern Star states that the tariff sheet is being submitted to comply with the FERC Order issued May 23, 2003, in this docket.

Southern Star states that copies of the tariff sheet are being served on Southern Star's jurisdictional customers, those appearing on the official service list, and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 18, 2003.

Magalie R. Salas,
Secretary.

[FR Doc. 03-15430 Filed 6-18-03; 8:45 am]

BILLING CODE 6717-01-P